LIBRARY OF CONGRESS

Copyright Royalty Board

[Docket No. 2008-2 CRB CD 2000-2003 (Phase II)]

Distribution of 2000, 2001, 2002, and 2003 Cable Royalty Funds

AGENCY: Copyright Royalty Board, Library of Congress.

ACTION: Notice announcing commencement of Phase II proceeding with request for Petitions to Participate.

SUMMARY: The Copyright Royalty Judges are announcing the commencement of a proceeding to determine the Phase II distribution of 2000, 2001, 2002, and 2003 royalties collected under the cable statutory license. The Judges are also announcing the date by which a party who wishes to participate in this distribution proceeding must file its Petition to Participate and the accompanying $150 filing fee, if applicable.

DATES: Petitions to Participate and the filing fee are due on or before March 14, 2011.

ADDRESSES: An original, five copies, and an electronic copy in Portable Document Format (PDF) on a CD of the Petition to Participate, along with the $150 filing fee, may be delivered to the Copyright Royalty Board by either mail or hand delivery. Petitions to Participate and the $150 filing fee may not be delivered by an overnight delivery service other than the U.S. Postal Service Express Mail. If by mail (including overnight delivery), Petitions to Participate, along with the $150 filing fee, must be addressed to: Copyright Royalty Board, P.O. Box 70977, Washington, DC 20024-0977. If hand delivered by a private party, Petitions to Participate, along with the $150 filing fee, must be brought to the Library of Congress, James Madison Memorial Building, LM-401, 101 Independence Avenue, SE., Washington, DC 20559-6000. If delivered by a commercial courier, Petitions to Participate, along with the $150 filing fee, if applicable, must be delivered to the Congressional Courier Acceptance Site, located at 2nd and D Street, NE., Washington, DC. The envelope must be addressed to: Copyright Royalty Board, Library of Congress, James Madison Memorial Building, LM-403, 101 Independence Avenue, SE., Washington, DC 20559-6000.

FOR FURTHER INFORMATION CONTACT: LaKeshia Brent, CRB Program Specialist, by telephone at (202) 707-7658, or e-mail at crb@loc.gov.

SUPPLEMENTARY INFORMATION:

Background

Each year, semiannually, cable systems must submit royalty payments to the Copyright Office as required by the cable statutory license for the privilege of retransmitting over-the-air television and radio broadcast signals. 17 U.S.C. 111. These royalties are then distributed to copyright owners whose works were included in such retransmissions and who timely filed a claim for royalties. Distribution of the royalties for each calendar year are determined by the Copyright Royalty Judges (“Judges”) in two phases. At Phase I, the royalties are divided among the representatives of the major categories of copyrightable content (movies, sports programming, music, etc.) requesting the distribution. At Phase II, the royalties are divided among the various copyright owners within each category.

The Judges published their final determination regarding the Phase I distribution of the 2000-2003 cable royalties on May 12, 2010. 75 FR 26798. Thus, this Notice announcing the commencement of a proceeding under 17 U.S.C. 803(b)(1) for distribution of cable royalties collected for 2000, 2001, 2002, and 2003 is confined to Phase II.

Commencement of Phase II Proceeding

Consistent with 17 U.S.C. 804(b)(8), the Copyright Royalty Judges determine that a Phase II controversy exists as to the distribution of the 2000, 2001, 2002, and 2003 cable royalties. We reach this determination based on a Motion to Initiate Phase II Proceedings by the Joint Sports, Program Suppliers, and Devotional Claimants, three Phase I claimant groups, filed with the Judges on January 14, 2011. The Motion states that “[n]o pending controversies exist with respect to Phase I. However, controversies continue to exist with regard to Phase II in the devotional, sports, and syndicated programming categories. For example, one party, Independent Producers Group (`IPG'), claims that it represents copyright owners with [unresolved] Phase II claims in each of these categories.” Motion at 1. The Motion further states that “[t]he Phase I Parties are also aware of other ongoing Phase II controversies, including ongoing Phase II controversies in the syndicated programming category between the MPAA-represented Program Suppliers and the NAB-represented Program Suppliers as to the 2000, 2001, 2002, and 2003 royalty years, and between the MPAA-represented Program Suppliers and Home Shopping Network (`HSN') for the 2002 and 2003 royalty years.” Motion at 2. The Motion requests that the Judges commence a Phase II proceeding to resolve all outstanding Phase II controversies.¹ In light of the outstanding Phase II controversies with respect to cable royalties for 2000, 2001, 2002, and 2003, the Motion is granted.

¹ IPG filed an untimely response to the Motion on January 27, 2011. See 37 CFR 350.4(f) (oppositions to motions shall be filed within five business days of the filing of the motion).

Petitions To Participate

Petitions to Participate must be filed in accordance with 37 CFR 351.1(b)(2). Petitions to Participate submitted by interested parties whose claims do not exceed $1,000 must contain a statement that the party will not seek a distribution of more than $1,000.² No filing fee is required for these parties. A party whose claim(s) exceed $1,000 must submit a filing fee of $150 with its Petition to Participate or the Petition will be rejected. The filing fee must be paid by check or money order payable to the “Copyright Royalty Board.” If a check is returned for insufficient funds, the corresponding Petition to Participate will be dismissed. In accordance with 37 CFR 350.2 (Representation), all parties, other than individuals, must be represented by an attorney.

² The Copyright Royalty Judges Program Technical Corrections Act, Public Law 109-303, changed the amount from $10,000 to $1,000.

Further procedural matters, including scheduling, will be addressed after Petitions to Participate have been received.

Dated: February 3, 2011.
James Scott Sledge,
Chief Copyright Royalty Judge.

[FR Doc. 2011-2940 Filed 2-9-11; 8:45 am]

BILLING CODE 1410-72-P